DEPARTMENT OF EDUCATION

Privacy Act of 1974; System of Records

AGENCY: Institute of Education Sciences, Department of Education.

ACTION: Notice of deletions of existing systems of records.

SUMMARY: In accordance with the Privacy Act of 1974, as amended (Privacy Act), the Department of Education (Department) deletes eight systems of records from its existing inventory of systems of records subject to the Privacy Act.

DATES: These deletions are effective December 26, 2012.

FOR FURTHER INFORMATION CONTACT: Dr. Audrey Pendleton, Associate Commissioner, Evaluation Division, National Center for Education Evaluation and Regional Assistance, Institute of Education Sciences, U.S. Department of Education, 555 New Jersey Avenue NW., room 502D, Washington, DC 20208-0001. Telephone: (202) 208-7078.

If you use a telecommunications device for the deaf (TDD) or a text telephone (TTY), call the Federal Relay Service (FRS), toll free, at 1-800-877-8339.

Individuals with disabilities can obtain this document in an accessible format (e.g., braille, large print, audiotape, or compact disc) on request to the contact person listed in this section.

SUPPLEMENTARY INFORMATION: The Department deletes eight systems of records from its inventory of record systems subject to the Privacy Act (5 U.S.C. 552a). The deletions are not within the purview of subsection (r) of the Privacy Act, which requires submission of a report on a new or altered system of records.

These systems of records are no longer needed because the records are no longer collected or maintained by the Department or its contractors. Further, all data that has been collected for each system of records has been destroyed by the contractors; therefore the following systems of records are deleted:

1. (18-13-04) Outcomes of Diversity in Higher Education Study, 64 FR 30106, 30186 (June 4, 1999), as amended 64 FR 72408 (December 27, 1999).

2. (18-13-08) Early Reading First National Evaluation, 71 FR 66506-66508 (November 15, 2006).

3. (18-13-10) Impact Evaluation of Teacher Preparation Models, 70 FR 45378-45380 (August 5, 2005).

4. (18-13-11) Evaluation of the Impact of Teacher Induction Programs, 70 FR 35231-35233 (June 17, 2005).

5. (18-13-13) Impact Evaluation of Academic Instruction for After-School Programs, 70 FR 35656-35659 (June 21, 2005).

6. (18-13-14) Impact Evaluation of the U.S. Department of Education's Student Mentoring Program, 71 FR 28021-28023 (May 15, 2006).

7. (18-13-16) Impact Evaluation of Mandatory-Random Student Drug Testing, 72 FR 15129-15131 (March 30, 2007).

The following system of records was cancelled prior to records being collected and is therefore deleted:

8. (18-13-17) Impact Evaluation of Upward Bound's Increased Focus on Higher-Risk Students, 72 FR 33213-33215 (June 15, 2007).

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: December 20, 2012.
John Q. Easton,
Director, Institute of Education Sciences.

For the reasons discussed in the preamble, the Director of the Institute of Education Sciences deletes the following systems of records:

System number | System name
18-13-04 | Outcomes of Diversity in Higher Education Study.
18-13-08 | Early Reading First National Evaluation.
18-13-10 | Impact Evaluation of Teacher Preparation Models.
18-13-11 | Evaluation of the Impact of Teacher Induction Programs.
18-13-13 | Impact Evaluation of Academic Instruction for After-School Programs.
18-13-14 | Impact Evaluation of the U.S. Department of Education's Student Mentoring Program.
18-13-16 | Impact Evaluation of Mandatory-Random Student Drug Testing.
18-13-17 | Impact Evaluation of Upward Bound's Increased Focus on Higher-Risk Students.

[FR Doc. 2012-31108 Filed 12-21-12; 4:15 pm]

BILLING CODE 4000-01-P